DEPARTMENT OF HEALTH AND HUMAN SERVICES

Agency for Healthcare Research and Quality Notice of Meeting

In accordance with section 10(d) of the Federal Advisory Committee Act (5 U.S.C., Appendix 2), announcement is made of a Health Care Policy and Research Special Emphasis Panel (SEP) meeting.

The Health Care Policy and Research Special Emphasis Panel is a list of experts in fields related to health care research who are invited by the Agency for Healthcare Research and Quality (AHRQ) and agree to be available, to conduct, on an as needed basis, scientific reviews of applications for AHRQ support. Individual members of the Panel do not meet regularly and do not serve for fixed or long terms. Rather, they are asked to serve for particular review meetings which require their type of expertise.

Substantial segments of the upcoming SEP meeting listed below will be closed to the public in accordance with the Federal Advisory Committee Act, section 10(d) of 5 U.S.C., Appendix 2 and 5 U.S.C. 552b(c)(6). Grant applications for Cooperative Agreement Awards are to be reviewed and discussed at this meeting. These discussions are likely to include personnel information concerning individuals associated with these applications. This information is exempt from mandatory disclosure under the above-cited statutes.

1. SEP Meeting on: Consumer Assessments of Health Plans Study, Phase II (CAHPS).

Date: March 11, 2002 (Open on March 11, from 8:00 a.m. to 8:15 a.m. and closed for remainder of the meeting).

Place: Hyatt Regency, Susquehanna Room, One Bethesda Metro Center, Bethesda, MD 20814.

Contact Person: Anyone wishing to obtain a roster of members or minutes of this meeting should contact Mrs. Bonnie Campbell, Committee Management Officer, Office of Research Review, Education and Policy, AHRQ, 2101 East Jefferson Street, Suite 400, Rockville, Maryland 20852, Telephone (301) 594-1846.

Agenda items for this meeting are subject to change as priorities dictate.

Dated: February 11, 2002.
John M. Eisenberg,
Director.

[FR Doc. 02-3678 Filed 2-13-02; 8:45 am]

BILLING CODE 4160-90-M